DEPARTMENT OF AGRICULTURE

Commodity Credit Corporation

7 CFR Part 1439

RIN 0560-AG33

Livestock Indemnity Program for Contract Growers

AGENCIES: Commodity Credit Corporation, USDA.

ACTION: Final rule.

SUMMARY: This rule implements provisions of the Agriculture, Rural Development, Food and Drug Administration, and Related Agencies Appropriations Act, 2001 (the 2001 Act) related to the Livestock Indemnity Program for Contract Growers (LIP-CG). That statute amended the time period during which eligible losses could have occurred and the Commodity Credit Corporation (CCC) is publishing this rule to extend the availability of benefits under LIP-CG to include benefits for livestock losses incurred during the period January 1, 2000 through February 7, 2000. Other provisions of the Act will be implemented under separate rules.

DATES: Effective December 27, 2000.

ADDRESSES: Comments should be mailed to: Sharon Biastock, Production, Emergencies, and Compliance Division, Farm Service Agency (FSA), U.S. Department of Agriculture, 1400 Independence Ave., SW., Washington, DC 20250-0540, telephone (202) 720-6336, Stop 0517; e-mail address: sharon_biastock@wdc.fsa.usda.gov. Comments can be inspected in Room 4093, South Building, U.S. Department of Agriculture, 1400 Independence Ave., SW., Washington, DC, between 7:30 a.m. and 4:30 p.m., Monday through Friday, except holidays.

FOR FURTHER INFORMATION CONTACT: Sharon Biastock, Price Support Division, Farm Service Agency (FSA), U.S. Department of Agriculture, 1400 Independence Ave., SW., Washington, DC 20250-0540, telephone (202) 720-6336, Stop 0517; e-mail address: sharon_biastock@wdc.fsa.usda.gov.

SUPPLEMENTARY INFORMATION:

Notice and Comment

CCC published a final rule implementing the LIP-CG on June 8, 2000 at 65 FR 36550, as provided by the Omnibus Consolidated Appropriations Act, 2000 (Pub. L. 106-113), which added funding to the emergency livestock assistance provided by section 802 of the Agriculture, Rural Development, Food and Drug Administration, and Related Agencies Appropriations Act, 2000 (Pub. L. 106-78) and authorized its use for emergency assistance to contract growers during 1999. Section 824 of Public Law 106-78 required that the regulations necessary to implement the livestock assistance provisions be issued as soon as practicable and without regard to the notice and comment provisions of 5 U.S.C. 553 or the Statement of Policy of the Secretary of Agriculture (the Secretary) effective July 24, 1971 (36 FR 13804) relating to notices of proposed rulemaking and public participation in rulemaking. The 2001 Act amended Public Law 106-113 to extend the time frame for losses compensable under LIP-CG, and thus supercedes the existing regulations. Because this rule merely amends the regulations previously published as a final rule exempt from notice and comment, Congress intended for the statutory amendment to the program and the necessary regulatory amendments to be similarly exempt. These provisions are thus issued as final.

Executive Order 12866

This rule is issued in conformance with Executive Order 12866 and has been determined to be significant and has been reviewed by the Office of Management and Budget.

Regulatory Flexibility Act

It has been determined that the Regulatory Flexibility Act is not applicable to this rule because USDA is not required by 5 U.S.C. 553 or any other provision of law to publish a notice of proposed rulemaking with respect to the subject matter of this rule.

Environmental Evaluation

It has been determined by an environmental evaluation that this action will have no significant impact on the quality of the human environment. Therefore, neither an environmental assessment nor an Environmental Impact Statement is needed.

Executive Order 12372

This program is not subject to the provisions of Executive Order 12372, which require intergovernmental consultation with State and local officials. See the notice related to 7 CFR part 3015, subpart V, published at 48 FR 29115 (June 24, 1983).

Executive Order 12988

This rule has been reviewed in accordance with Executive Order 12988. The provisions of this rule preempt State laws to the extent such laws are inconsistent with the provisions of this rule. Before any judicial action may be brought concerning the provisions of this rule, the administrative remedies must be exhausted.

Unfunded Mandates Reform Act of 1995

The provisions of Title II of the Unfunded Mandates Reform Act of 1995 are not applicable to this rule because USDA is not required by 5 U.S.C. 553 or any other provision of law to publish a notice of proposed rulemaking with respect to the subject matter of this rule. Further, in any case, these provisions do not impose any mandates on state, local or tribal governments, or the private sector.

Small Business Regulatory Enforcement Fairness Act of 1996

As discussed in the earlier section on Notice and Comment, section 824 of Public Law 106-78 required that the regulations necessary to implement the emergency livestock assistance provisions be issued as soon as practicable and without regard to the notice and comment provisions of 5 U.S.C. 553 or the Statement of Policy of the Secretary of Agriculture effective July 24, 1971 (36 FR 13804) relating to notices of proposed rulemaking and public participation in rulemaking. Section 824 also required that the Secretary use the provisions of section 808 of the Small Business Regulatory Enforcement Fairness Act (SBREFA) (5 U.S.C. 808), which provides that a rule may take effect at such time as the agency may determine if the agency finds for good cause that public notice is impracticable, unnecessary, or contrary to the public purpose, and thus does not have to meet SBREFA's normal requirement for a 60-day delay for Congressional review of a major rule before it can go into effect. The 2001 Act amended the LIP-CG provisions of Public Law 106-113, which authorized the program under the general emergency livestock assistance provisions of Public Law 106-78, and therefore this rule merely amends regulations previously published as a final rule for which the Secretary was required to use the “good cause” provision provided in § 801 of SBREFA. Congress intended for the “good cause” provision to be used for the statutory amendment to the program and the necessary regulations as well. Additionally, this rule is not considered a major rule under SBREFA. Accordingly, because the rule affects the incomes of agricultural producers who have been hit hard by natural disasters, it would be contrary to the public interest to delay this rule and they are issued as final and are effective immediately.

Paperwork Reduction Act

Section 824 of Public Law 106-78 required that the regulations necessary to implement livestock assistance be promulgated without regard to 44 U.S.C. chapter 35 (the Paperwork Reduction Act (PRA)). This means that the normal 60-day public comment period and OMB approval of the information collections required by this rule are not required before the regulations may be made effective. The 2001 Act amended the LIP-CG provisions of Public Law 106-113, which authorized the program under the general emergency livestock assistance provisions of Public Law 106-78, and therefore this rule merely amends regulations previously published as a final rule that were exempt from the PRA. Congress intended for these regulations to be exempt as well. However, the 60-day public comment period and OMB approval under the provisions of the PRA are still required after the rule is published.

Background

Section 805 of the Agriculture, Rural Development, Food and Drug Administration, and Related Agencies Appropriations Act, 2000 (Pub. L. 106-78) gave the Secretary the authority to spend $325 million of CCC funds to compensate livestock producers for losses incurred during 1999. Subsequently, the Omnibus Consolidated Appropriations Act, 2000 (Pub. L. 106-113) gave the Secretary the authority to spend an additional $10 million of CCC funds to compensate “persons who raise livestock owned by other persons for income losses sustained with respect to livestock during 1999. * * *” CCC thus published a final rule implementing the LIP-CG on June 8, 2000 at 65 FR 36550. Subsequently, because the entire $10 million authorized by Public Law 106-113 was not spent, and because there were additional losses that occurred in January of 2000, the 2001 Act amended Public Law 106-113 by striking “during 1999” and inserting “from January 1, 1999, to February 7, 2000.” This final rule announces and carries out that statutory amendment.

For losses that occurred during 1999 the prior rule required producers to apply for benefits before May 1, 2000, and this amended rule does not affect the deadline that existed for losses that occurred during 1999. However, this rule announces a new sign-up period for the producers who suffered losses that occurred during the period of January 1, 2000, through February 7, 2000. Producers so affected will have to apply at their local USDA Service Center prior to January 26, 2001. All other program requirements remain unchanged. Accordingly, this rule announces the new loss period and the application period for those producers. This final rule also corrects the statutory authority for Part 1439.

List of Subjects in 7 CFR Part 1439

Animal feeds, Disaster assistance, Livestock, Pasture, Reporting and record keeping requirements.

For the reasons set out in the preamble, 7 CFR part 1439 is amended as set forth below.

PART 1439—EMERGENCY LIVESTOCK ASSISTANCE

1. The authority citation is revised to read as follows:

Authority: 7 U.S.C. 1427a; 15 U.S.C. 714 et seq.; Sec 1103 Pub. L. 105-277, 112 Stat. 2681-42-44; Pub. L. 106-31, 113 Stat. 57; Pub. L. 106-78, 113 Stat. 1135; Pub. L. 106-113, 113 Stat. 1501; Sec. 257 Pub. L. 106-224, 114. Stat. 358; Secs. 802, 806, & 813 Pub. L. 106-387, 114 Stat. 1549.

Subpart E—Livestock Indemnity Program for Contract Growers

2. Revise § 1439.401 to read as follows:

§ 1439.401 Applicability.

This subpart sets forth the terms and conditions of the Livestock Indemnity Program for Contract Growers. Under Title I of the Omnibus Consolidated Appropriations Act, 2000 (Pub. L. 106-113; 113 Stat. 1501), the Secretary is specifically authorized to use $10 million to provide assistance to persons who raise livestock owned by other persons for income losses sustained with respect to livestock during 1999 if the Secretary finds that such losses are the result of natural disasters. Section 802 of the Agriculture, Rural Development, Food and Drug Administration, and Related Agencies Appropriations Act, 2001 (Pub. L. 106-387; 114 Stat. 1549) amended the Omnibus Consolidated Appropriations Act, 2000, to cover losses that occurred during the period January 1, 2000 through February 7, 2000. Accordingly, this subpart provides for benefits to be paid to eligible producers who sustained a loss of income directly attributed to a reduction in the production of livestock and livestock products from livestock that were entirely owned by others, due to or as a result of natural disasters that occurred from January 1 through February 7, 2000 in areas for which a Presidential or Secretarial Declaration was approved. Producers in contiguous counties that were not designated as a disaster area in their own right are not eligible for benefits under this part. Benefits will be provided with respect to eligible livestock where the death occurred in the disaster area during January 1 through February 7, 2000 where the death was reasonably related to the disaster that prompted the disaster declaration as determined by the Deputy Administrator for Farm Programs, or designee. The livestock had to be in possession of the applicant during the time in which the disaster occurred.

3. Revise § 1439.404 to read as follows:

§ 1439.404 Application period.

(a) For losses that occurred during 1999, a request for benefits under this subpart must be submitted to CCC at the county FSA office serving the county where the loss occurred. All requests for benefits and supporting documentation must be filed in the county FSA office by May 1, 2000, or such other date as established by CCC.

(b) For losses that occurred during the period January 1, 2000 through February 7, 2000, a request for benefits under this subpart must be submitted to CCC at the county FSA office serving the county where the loss occurred. All requests for benefits and supporting documentation must be filed in the county FSA office by January 26, 2001, or such other date as established by CCC.

(c) Data furnished by the applicants will be used to determine eligibility for program benefits. Furnishing the data is voluntary; however, without such data, program benefits will not be approved or provided.

Dated: December 22, 2000.
Keith Kelly,
Executive Vice President, Commodity Credit Corporation.

[FR Doc. 00-33382 Filed 12-27-00; 11:05 am]

BILLING CODE 3410-05-P